DEPARTMENT OF JUSTICE

Drug Enforcement Administration

[Docket No. DEA-869]

Bulk Manufacturer of Controlled Substances Application: AMPAC Fine Chemicals, LLC

AGENCY: Drug Enforcement Administration, Justice.

ACTION: Notice of application.

SUMMARY: AMPAC Fine Chemicals, LLC. has applied to be registered as a bulk manufacturer of basic class(es) of controlled substance(s). Refer to Supplemental Information listed below for further drug information.

DATES: Registered bulk manufacturers of the affected basic class(es), and applicants therefore, may file written comments on or objections to the issuance of the proposed registration on or before September 27, 2021. Such persons may also file a written request for a hearing on the application on or before September 27, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on June 14, 2021, AMPAC Fine Chemicals, LLC., Highway 50 and Hazel Avenue, Rancho Cordova, California 95670, applied to be registered as a bulk manufacturer of the following basic class(es) of controlled substance(s):

Controlled substance | Drug code | Schedule
Norlevorphanol | 9634 | I
Methylphenidate | 1724 | II
Levomethorphan | 9210 | II
Levorphanol | 9220 | II
Thebaine | 9333 | II
Remifentanil | 9739 | II
Tapentadol | 9780 | II

The company plans to bulk manufacture the listed controlled substances for distribution to its customers.

Brian S. Besser,
Acting Assistant Administrator.

[FR Doc. 2021-16137 Filed 7-28-21; 8:45 am]

BILLING CODE P